DEPARTMENT OF THE INTERIOR

Office of the Secretary

Statement of Findings: Soboba Band of Luiseño Indians Settlement Act of 2008

AGENCY: Office of the Secretary, Interior.

ACTION: Notice.

SUMMARY: The Secretary of the Interior is publishing this notice as required by section 10(a) of the Soboba Band of Luiseño Indians Settlement Act of 2008, Public Law 110-297, 122 Stat. 2975, 2983 (Settlement Act). The publication of this notice causes certain waivers and releases of claims to become effective as required by the Settlement Act.

DATES: Effective Date: In accordance with section 10(a) of the Settlement Act, the waivers and releases of claims described in section 8(a) of the Settlement Act, as well as those described in article 5 of the Settlement Agreement ratified by the Settlement Act, are effective on November 28, 2011.

FOR FURTHER INFORMATION CONTACT: Address all comments and requests for additional information to Robert Laidlaw, Senior Policy Analyst, United States Department of the Interior, 1849 C Street NW., Room 3517, Washington, DC 20240.

SUPPLEMENTARY INFORMATION: The Settlement Act approves, ratifies, and confirms the Settlement Agreement entered into by the settlement parties, including the United States on behalf of the Tribe, the Tribe, the Metropolitan Water District of Southern California, Eastern Municipal Water District, and Lake Hemet Municipal Water District. The Settlement Act, which Congress enacted on July 31, 2008, determines the Tribe's water rights; resolves the Tribe's claims for interference with the water resources of, and damages to, the Tribe's Reservation; provides for construction of certain water projects to facilitate exercise of the Tribe's water rights secured by the Settlement Act; and resolves outstanding litigation.

Section 10(b) of the Settlement Act and article 3.3 of the Settlement Agreement provide that the Settlement Act and the Settlement Agreement shall be null and void if certain conditions are not fulfilled on or before March 1, 2012. The publication of this notice and the Statement of Findings below confirm that the conditions required by section 10(a) of the Settlement Act and article 3 of the Settlement Agreement have been fulfilled. Accordingly, the waivers and releases executed pursuant to section 8(a) of the Settlement Act and article 5 of the Settlement Agreement are effective as of November 28, 2011.

Statement of Findings

In accordance with section 10(a) of the Settlement Act and article 3.1 of the Settlement Agreement, I find as follows:

1. The Settlement Act was enacted on July 31, 2008.

2. To the extent that the Settlement Agreement conflicted with the Act, the Settlement Agreement has been revised to conform to the Act.

3. The Settlement Agreement, revised as necessary, and the waivers and releases described in article 5 of the Settlement Agreement and section 8(a) of the Settlement Act have been executed by the parties and by the Secretary.

4. Warranty deeds for the property to be conveyed to the Tribe described in article 4.6 of the Settlement Agreement have been placed in escrow and, in accordance with the Settlement Agreement, shall be delivered to the Tribe on the first business day following the Effective Date (i.e., publication of this notice).

5. The Tribe and the Secretary have approved the Water Management Plan developed pursuant to article 4.8.A of the Settlement Agreement.

6. A judgment and decree substantially the same as Exhibit H to the Settlement Agreement has been approved by the United States District Court, Eastern Division of the Central District of California, and that judgment and decree has become final and non-appealable.

Dated: October 27, 2011.
Ken Salazar,
Secretary of the Interior.

[FR Doc. 2011-30440 Filed 11-25-11; 8:45 am]

BILLING CODE 4310-W7-P